DEPARTMENT OF STATE

[Public Notice 8636]

Activities of the International Telecommunication Advisory Committee and Preparations for Upcoming International Telecommunications Meetings

This notice announces a meeting of the Department of State's International Telecommunication Advisory Committee (ITAC) to review the activities of the Department of State in international meetings on international communications and information policy over the last quarter and prepare for similar activities in the next quarter.

The ITAC will meet on March 13, 2014 at 2:00 p.m. EDT at 2300 N Street NW., Suite 700, Washington, DC 20037-1128 to review the preparations for and outcomes of international telecommunications meetings of the International Telecommunication Union, the Inter-American Telecommunications Commission, and announce preparations for similar activities for the next quarter.

In particular, preparations for the World Telecommunications Development Conference, the Plenipotentiary Conference, and the Ten year review of implementation of the World Summit on the Information Society outcomes will be discussed.

Further details on this ITAC meeting will be announced on the Department of State's email list, ITAC@lmlist.state.gov. Use of the ITAC list is limited to meeting announcements and confirmations, distribution of agendas and other relevant meeting documents.

Subscription to the ITAC list is open. Persons wishing to participate in the ITAC list, desiring further information on preparatory meetings, and those persons wishing to request reasonable accommodation during the meeting should contact the Secretariat at minardje@state.gov or gadsdensf@state.gov.

Attendance at this meeting is open to the public as seating capacity allows. The public will have an opportunity to provide comments at this meeting at the invitation of the chair.

Dated: February 10, 2014.
Doreen McGirr,
Foreign Affairs Officer, International Communications & Information Policy, U.S. Department of State.

[FR Doc. 2014-03520 Filed 2-18-14; 8:45 am]

BILLING CODE 4710-07-P